DEPARTMENT OF TRANSPORTATION

Federal Railroad Administration

[Docket Number FRA-2013-0055]

Petition for Waiver of Compliance

In accordance with Part 211 of Title 49 Code of Federal Regulations (CFR), this document provides the public notice that by a document dated May 16, 2013, the Commuter Rail Division of the Regional Transportation Authority (Metra) and its operating company, the Northeast Illinois Regional Commuter Railroad Corporation, have petitioned the Federal Railroad Administration (FRA) for a waiver of compliance from certain provisions of the Federal railroad safety regulations contained at 49 CFR Part 236—Rules, Standards, and Instructions Governing the Installation, Inspection, Maintenance, and Repair of Signal and Train Control Systems, Devices, and Appliances. FRA assigned the petition Docket Number FRA-2013-0055.

Metra seeks a waiver from the requirements 49 CFR 236.566, Locomotive of each train operating in train stop, train control or cab signal territory; equipped. Specifically, Metra seeks FRA's approval to operate equipped Metra Heritage Corridor District (HCD) trains on Metra's Rock Island District (RID) from Joliet Coach Yard at Control Point (CP) Richards, Milepost (MP) 39.9 to the switch at the wye at UD Tower, MP 40.1 with the cab signals cut out.

This petition for waiver is requested because HCD trains are positioned overnight at the Joliet Coach Yard on the RID. The RID automatic cab signal (ACS) territory begins at Joliet, MP 40.2, and ends at Blue Island, MP 14.5. Metra's HCD trains operate on nonequipped territory, which begins in Joliet, MP 37.3, and ends at Chicago Union Station, MP 0.0. The affected trains would operate out of Joliet Yard with cab signals cut out for 1,100 feet up to the wye at UD Tower. To operate with cab signals on HCD trains would require Metra to train approximately 20 engineers on cab signal indications. In order for Metra to test HCD trains, a test loop would need to be installed at Joliet for trains operating in equipped territory less than 1,100 feet. Metra proposes that movement between CP Richards and the wye at UD Tower for HCD trains with the cab signals cut out will be made with an absolute block established in advance of all HCD trains. Additionally, the HCD trains movements will be made at restricted speed across the equipped territory.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 29, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on June 10, 2013.
Robert C. Lauby,
Deputy Associate Administrator for Regulatory and Legislative Operations.

[FR Doc. 2013-14090 Filed 6-13-13; 8:45 am]

BILLING CODE 4910-06-P